GENERAL SERVICES ADMINISTRATION

[Notice-MA-2021-01; Docket No. 2021-0002; Sequence No. 3]

Relocation Allowances—Waiver of Certain Federal Travel Regulation (FTR) Provisions During the COVID-19 Pandemic

AGENCY: Office of Government-wide Policy (OGP), General Services Administration (GSA).

ACTION: Notice of GSA Bulletin FTR 21-04, Waiver of certain Federal Travel Regulation (FTR) provisions during the Coronavirus Disease 2019 (COVID-19) pandemic.

SUMMARY: This GSA Bulletin FTR 21-04 informs agencies that certain provisions of the FTR governing official relocation travel and renewal agreement travel (RAT) may continue to be temporarily waived for the period of time stated in the bulletin. This bulletin also rescinds prior GSA Bulletins pertaining to relocation allowances during the pandemic.

DATES: Applicability Date: This notice is retroactively effective for official relocation travel performed after March 13, 2019, one year prior to the date of the Presidential national emergency proclamation concerning COVID-19.

FOR FURTHER INFORMATION CONTACT: Mr. Rick Miller, Senior Policy Analyst, Office of Government-wide Policy, Office of Asset and Transportation Management, at 202-501-3822, or travelpolicy@gsa.gov. Please cite Notice of GSA Bulletin FTR 21-04.

SUPPLEMENTARY INFORMATION: Background: Federal agencies authorize relocation entitlements to those individuals listed at FTR § 302-1.1 and those assigned under the Government Employees Training Act (GETA) (5 U.S.C. Chapter 41). Since the Presidential national emergency proclamation issued March 13, 2020 concerning COVID-19, the pandemic has resulted in various travel-related disruptions to relocating employees.

Accordingly, GSA issued Bulletins FTR 20-06 (published at 85 FR 23029, on April 24, 2020) and FTR 21-02 (published at 85 FR 59311, on September 21, 2020), to allow agencies to determine whether to implement waivers of time limits established by the FTR for completion of all aspects of relocation, temporary storage of household goods (HHG) shipments, house hunting trips (HHT), and time remaining in a second tour of duty upon return from renewal agreement travel (RAT), as set forth in the bulletins. The aforementioned bulletins, and the waiver provisions therein, were set to expire on March 13, 2021.

Given that the COVID-19 outbreak has continued to produce uncertainty and create difficulties for relocating individuals, GSA has decided to extend these waivers by rescinding Bulletins FTR 20-06 and FTR 21-02 and re-establishing the information therein by issuance of this new GSA Bulletin FTR 21-04 with a later expiration date. This GSA Bulletin FTR 21-04 can be viewed at https://www.gsa.gov/ftrbulletins.

Krystal J. Brumfield,
Associate Administrator, Office of Government-wide Policy.

[FR Doc. 2021-05257 Filed 3-12-21; 8:45 am]

BILLING CODE 6820-14-P